DEPARTMENT OF TRANSPORTATION

Federal Transit Administration

[Docket No. FTA-2015-0002]

Emergency Relief Program: Proposed Guidance

AGENCY: Federal Transit Administration (FTA), DOT.

ACTION: Notice of Availability of Guidance for FTA's Emergency Relief Program and Request for Comments.

SUMMARY: The Federal Transit Administration (FTA) has placed in the docket and on its Web site proposed guidance on FTA's Emergency Relief (ER) Program for states and transit agencies that may be affected by a declared emergency or disaster and that may seek funding under FTA's ER Program. The proposed guidance is contained in the newly revised Reference Manual for States & Transit Agencies on Response and Recovery from Declared Disasters and FTA's Emergency Relief Program, which replaces “Response and Recovery from Declared Emergencies and Disasters: A Reference for Transit Agencies,” last updated in June 2013. In addition to proposed guidance on the ER Program, this document provides information on other disaster relief resources available through FTA and from the Federal Emergency Management Agency (FEMA). By this notice, FTA seeks public comment on the proposed ER Program guidance.

DATES: Comments must be submitted by April 6, 2015. Late-filed comments will be considered to the extent practicable.

ADDRESSES: Please submit your comments by only one of the following methods, identifying your submission by docket number FTA-2015-0002. All electronic submissions must be made to the U.S. Government electronic site at http://www.regulations.gov.

(1) Federal eRulemaking Portal: Go to http://www.regulations.gov and follow the online instructions for submitting comments.

(2) Mail: Docket Management Facility: U.S. Department of Transportation, 1200 New Jersey Avenue SE., West Building, Ground Floor, Room W12-140, Washington, DC 20590-0001.

(3) Hand Delivery or Courier: West Building Ground Floor, Room W12-140, 1200 New Jersey Avenue SE., between 9 a.m. and 5 p.m. Eastern time, Monday through Friday, except Federal holidays.

(4) Fax: 202-493-2251. Instructions: You must include the agency name (Federal Transit Administration) and Docket number (FTA-2015-0002) for this notice at the beginning of your comments. Submit two copies of your comments if you submit them by mail. For confirmation that FTA received your comments, include a self-addressed stamped postcard. All comments received will be posted without change to www.regulations.gov including any personal information provided and will be available to internet users. You may review DOT's complete Privacy Act Statement published in the Federal Register on April 11, 2000 (65 FR 19477) or http://DocketsInfo.dot.gov.

Docket: For access to the docket to read background documents and comments received, go to www.regulations.gov at any time or to the U.S. Department of Transportation, 1200 New Jersey Ave SE., Docket Operations, M-30, West Building Ground Floor, Room W12-140, Washington, DC 20590 between 9:00 a.m. and 5:00 p.m., Monday through Friday, except Federal holidays.

FOR FURTHER INFORMATION CONTACT: For questions about the ER Program, contact Adam Schildge, Office of Program Management, 1200 New Jersey Ave SE., Washington, DC 20590, phone: (202) 366-0778, or email, adam.schildge@dot.gov. For legal questions regarding the final program regulations, contact Bonnie Graves, Office of Chief Counsel, same address, phone: (202) 366-0944, or email, Bonnie.Graves@dot.gov.

SUPPLEMENTARY INFORMATION: The Federal Transit Administration (FTA) has published proposed guidance on FTA's Emergency Relief (ER) Program for states and transit agencies that may be affected by a declared emergency or disaster and that may seek Federal disaster assistance for emergency related expenses. This guidance document, Reference Manual for States & Transit Agencies on Response and Recovery from Declared Disasters and FTA's Emergency Relief Program, includes information on disaster relief resources available for transit systems from both FTA and FEMA, in addition to detailed program guidance and application instructions for FTA's Emergency Relief Program. This manual has been produced in coordination with FEMA, and incorporates current guidance on FEMA disaster relief programs. This includes guidance for transit agencies on the appropriate circumstances under which to apply to FTA or FEMA for disaster relief assistance.

This reference manual includes background information on other sources of Federal disaster relief assistance, in addition to recommended practices for states and transit agencies for disaster preparation and response, that was previously included in “Response and Recovery from Declared Emergencies and Disasters: A Reference for Transit Agencies.” This information has been updated and is contained in Chapters 1, 2 and 3 of this reference manual.

Guidance specific to FTA's ER Program is contained in Chapter 4 of this reference manual. This includes an overview of eligible recipients, eligible projects, application procedures, and other key program policies and requirements. The guidance in this manual is based on final program regulations published on October 7, 2014 at 49 CFR part 602 (79 FR 60349), which were developed through a public notice and comment process. In addition, the guidance document includes previously issued policy statements and information from Federal Register notices that FTA published subsequent to Hurricane Sandy. The document has been placed in the docket and has been posted on FTA's Web site at www.fta.dot.gov/emergencyrelief. With this notice, FTA invites public comment on this proposed guidance.

Therese W. McMillan,
Acting Administrator.

[FR Doc. 2015-02137 Filed 2-3-15; 8:45 am]

BILLING CODE P